NUCLEAR REGULATORY COMMISSION

[Docket No. NRC-2014-0025]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on February 25, 2014.

1. Type of submission, new, revision, or extension: Extension.

2. The title of the information collection: DOE/NRC Form 742, “Material Balance Report,” and DOE/NRC Form 742C, “Physical Inventory Listing,” and NUREG/BR-0007, “Instructions for the Preparation and Distribution of Material Status Reports.”

3. Current OMB approval number:

DOE/NRC Form 742: 3150-0004.

DOE/NRC Form 742C: 3150-0058.

4. The form number if applicable: DOE/NRC Forms 742 and 742C.

5. How often the collection is required: DOE/NRC Form 742 is submitted once a year within 30 days after the start of a physical inventory as part of the material accounting and control procedures. DOE/NRC Form 742C is submitted once a year when licensees complete their physical inventory as part of the material accounting and control procedures.

6. Who will be required or asked to report: DOE/NRC Form 742: Persons licensed to possess specified quantities of special nuclear material or source material. Any licensee, including nuclear reactor licensees, possessing, or who had possessed in the previous reporting period, at any one time and location, special nuclear material in a quantity totaling one gram or more shall complete DOE/NRC Form 742. In addition, each licensee, Federal or State, who is authorized to possess, at any one time or location, 1 kilogram of foreign obligated source material, is required to file with the NRC an annual statement of source material inventory which is foreign-obligated. DOE/NRC Form 742C: Persons licensed to possess specified quantities of special nuclear material or source material. Any licensee, including nuclear reactor licensees, possessing, or who had possessed in the previous reporting period, at any one time and location, special nuclear material in a quantity totaling one gram or more shall complete DOE/NRC Form 742C.

7. An estimate of the number of annual responses:

DOE/NRC Form 742: 360 responses.

DOE/NRC Form 742C: 360 responses.

8. The estimated number of annual respondents:

DOE/NRC Form 742: 360 respondents.

DOE/NRC Form 742C: 360 respondents.

9. An estimate of the total number of hours needed annually to complete the requirement or request:

DOE/NRC Form 742: 1,260 hours.

DOE/NRC Form 742C: 1,440 hours.

10. Abstract: The NRC is required to collect nuclear material transaction information for domestic safeguards use and make it available to the International Atomic Energy Agency (IAEA). Licensees use DOE/NRC Form 742 to report the material balance within 30 days after the start of a physical inventory of nuclear materials actually present at licensee's facilities, including the quantities of foreign obligated source material. Licensees use DOE/NRC Form 742C to report the material status based on a physical inventory of nuclear materials actually present at licensee's facilities. These forms enable the NRC to collect, retrieve, analyze, and submit the data to IAEA to fulfill its reporting responsibilities.

This information collection request will also categorize these forms as common forms. Once the OMB approves the use of these common forms, all Federal agencies using the forms may request use of these common forms without additional 60- or 30-day notice and comment requirements. At that point, each agency will account for its number of respondents and the burden associated with the agency's use.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by June 18, 2014. Comments received after this date will be considered if it is practical to do so, but assurance of consideration cannot be given to comments received after this date. Danielle Y. Jones, Desk Officer, Office of Information and Regulatory Affairs (3150-0004/3150-0058), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 13th day of May 2014.
For the Nuclear Regulatory Commission.
Kristen Benney,
Acting NRC Clearance Officer, Office of Information Services.

[FR Doc. 2014-11405 Filed 5-16-14; 8:45 am]

BILLING CODE 7590-01-P